DEPARTMENT OF HOMELAND SECURITY

Coast Guard

33 CFR Part 165

[Docket No. USCG-2009-0317]

RIN 1625-AA87

Security Zone; Calcasieu River, Hackberry, LA

AGENCY: Coast Guard, DHS

ACTION: Temporary final rule.

SUMMARY: The Coast Guard is establishing a temporary security zone on the waters of the Calcasieu River for the mooring basin at Cameron LNG in Hackberry, LA. The security zone is needed to protect vessels, waterfront facilities, the public, and other surrounding areas from destruction, loss, or injury caused by sabotage, subversive acts, accidents, or other actions of a similar nature. Entering this security zone is prohibited without permission from the Captain of the Port, Port Arthur or a designated representative.

DATES: This rule is effective from September 9, 2009 until November 30, 2009.

ADDRESSES: Documents indicated in this preamble as being available in the docket are part of docket USCG-2009-0317 and are available online by going to http://www.regulations.gov, inserting USCG-2009-0317 in the “Keyword” box, and then clicking “Search.” They are also available for inspection or copying at two locations: The Docket Management Facility (M-30), U.S. Department of Transportation, West Building Ground Floor, Room W12-140, 1200 New Jersey Avenue, SE., Washington, DC 20590, between 9 a.m. and 5 p.m., Monday through Friday, except Federal holidays, and at Coast Guard Marine Safety Unit Port Arthur, 2901 Turtle Creek Dr., Port Arthur, Texas 77642, between 8 a.m. and 4 p.m., Monday through Friday, except Federal Holidays.

FOR FURTHER INFORMATION CONTACT: If you have questions on this temporary rule, call or email LT Clint Smith, Coast Guard Marine Safety Unit Lake Charles; Telephone (337) 491-7819, e-mail Clint.P.Smith@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because the facility will begin operations before a Notice and Comment period could be completed, and delaying the beginning of facility operations is impracticable due to the substantial expense and effort involved, and contrary to the public interest in having this facility operational.

Under 5 U.S.C. 553(d)(3), the Coast Guard finds that good cause exists for making this rule effective less than 30 days after publication in the Federal Register with respect to this rule because the facility will begin operations before a thirty day period could be completed, and delaying the beginning of facility operations is impracticable due to the substantial expense and effort involved, and contrary to the public interest in having this facility operational.

Background and Purpose

Heightened awareness of potential terrorist acts requires enhanced security of our ports, harbors, and vessels. To enhance security, the Captain of the Port, Port Arthur is establishing a temporary security zone on the waters of the Calcasieu River in Hackberry, LA.

This zone will protect waterfront facilities, persons, and vessels from subversive or terrorist acts. Vessels operating within the Captain of the Port, Port Arthur Zone are potential targets of terrorist attacks, or platforms from which terrorist attacks may be launched upon other vessels, waterfront facilities, and adjacent population centers. By limiting access to this area, the Coast Guard is reducing potential methods of attack on this facility and vessels moored in the basin. Vessels having a need to enter this security zone must obtain permission from the Captain of the Port, Port Arthur or a designated representative prior to entry.

This rule is not designed to restrict access to vessels engaged, or assisting in commerce with waterfront facilities within this security zone, vessels operated by port authorities, vessels operated by waterfront facilities within the security zone, and vessels operated by federal, state, county or municipal agencies. By limiting access to this area the Coast Guard would reduce potential methods of attack on vessels, waterfront facilities, and adjacent population centers located within the zone. All vessels not exempted under the provisions of this proposed regulation desiring to enter this zone will be required to obtain permission from the Captain of the Port, Port Arthur or a designated representative prior to entry.

Discussion of Rule

The Captain of the Port, Port Arthur is establishing a temporary security zone on the waters of the Calcasieu River for the mooring basin at Cameron LNG in Hackberry, LA. The coordinates and locations of the security zone are as follows: All waters encompassed by a line connecting the following points, beginning at 30°02′33″ N, 093°19′53″ W, east to a point at 30°02′34″ N, 093°19′50″ W, south to a point at 30°02′07″ N, 093°19′52″ W and east to a point at 30°02′10″ N, 93°19′59″ W, then along the shoreline to the beginning point. This security zone will be part of a comprehensive port security regime designed to safeguard human life, vessels, and waterfront facilities against sabotage or terrorist attacks.

All vessels not exempted under this rule will be prohibited from entering the proposed security zone unless authorized by the Captain of the Port, Port Arthur or a designated representative. For authorization to enter the proposed security zone vessels can contact the Captain of the Port, Port Arthur through Vessel Traffic Service Port Arthur on VHF Channel 13, by telephone at (409) 719-5070, or by facsimile at (409) 719-5090.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation under the regulatory policies and procedures of DHS is unnecessary. The rule does not affect traffic operating in navigable channels. Moreover, vessels may still enter the security zone with permission from the Captain of the Port.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit in and on the waters inside the mooring basin at Cameron LNG in Hackberry, LA. This security zone will not have a significant economic impact on a substantial number of small entities for the following reasons: This rule will be effective in a location where traffic is minimal and for a limited time; and traffic will be allowed to enter the zone with permission from the Captain of the Port.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 5100.1 and Commandant Instruction M16475.lD, which guide the Coast Guard in complying with the National Environmental Policy Act of 1969 (NEPA) (42 U.S.C. 4321-4370f), and have concluded under the Instruction that there are no factors in this case that would limit the use of a categorical exclusion under section 2.B.2 of the Instruction. Therefore, this rule is categorically excluded, under figure 2-1, paragraph (34)(g), of the Instruction, from further environmental documentation. A final environmental analysis checklist and categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195, 33 CFR 1.05-1, 6.04-1, 6.04-6, and 160.5; Pub. L. 107-295, 116 Stat. 2064; Department of Homeland Security Delegation No. 0170.1.

2. Add a new temporary § 165.T08-0317 to read as follows:

§ 165.T08-0317 Security Zone; Calcasieu River, Hackberry, Louisiana.

(a) Location. The following area is a temporary security zone: Cameron LNG basin, all waters encompassed by a line connecting the following points, beginning at 30°02′33″ N, 093°19′53″ W, east to a point at 30°02′34″ N, 093°19′50″ W, south to a point at 30°02′07″ N, 093°19′52″ W and east to a point at 30°02′10″ N, 93° 19′59″ W, then along the shoreline to the beginning point.

(b) Regulations:

(1) Entry into or remaining in this zone is prohibited for all vessels except:

(i) Commercial vessels operating at waterfront facilities within this zone;

(ii) Commercial vessels transiting directly to or from waterfront facilities within this zone;

(iii) Vessels providing direct operational or logistical support to commercial vessels within this zone;

(iv) Vessels operated by the appropriate port authority or by facilities located within this zone; and

(v) Vessels operated by federal, state, county, or municipal agencies.

(2) Other persons or vessels requiring entry into the security zone described in this section must request permission from the Captain of the Port, Port Arthur or designated representatives.

(3) To request permission as required by these regulations, contact MSU Port Arthur by phone at (409) 719-5070.

(c) This is a temporary rule enabling the required security zone specifically for arrival of Cameron LNG's commissioning cargoes. There is a Notice of Rulemaking (NPRM) being drafted to propose this security zone permanently. Until the NPRM and subsequent final rule are official, this TFR allows for the security zone at Cameron LNG.

Dated: May 19, 2009.
J.J. Plunkett,
Captain, U.S. Coast Guard, Captain of the Port, Port Arthur.

Editorial Note: This document was received in the Office of the Federal Register on September 2, 2009.

[FR Doc. E9-21578 Filed 9-8-09; 8:45 am]

BILLING CODE 4910-15-P